DEPARTMENT OF COMMERCE

Foreign-Trade Zones Board

[B-51-2023]

Foreign-Trade Zone (FTZ) 29; Authorization of Production Activity; Toyota Motor Manufacturing Kentucky, Inc.; (Dual Fuel Cell Modules); Georgetown, Kentucky

On September 21, 2023, the Louisville & Jefferson County Riverport Authority, grantee of FTZ 29, submitted a notification of proposed production activity to the FTZ Board on behalf of Toyota Motor Manufacturing Kentucky, Inc., within Subzone 29E, in Georgetown, Kentucky.

The notification was processed in accordance with the regulations of the FTZ Board (15 CFR part 400), including notice in the Federal Register inviting public comment (88 FR 67231, September 29, 2023). On January 19, 2024, the applicant was notified of the FTZ Board's decision that no further review of the activity is warranted at this time. The production activity described in the notification was authorized, subject to the FTZ Act and the FTZ Board's regulations, including section 400.14.

Dated: January 19, 2024.
Elizabeth Whiteman,
Executive Secretary.

[FR Doc. 2024-01345 Filed 1-23-24; 8:45 am]

BILLING CODE 3510-DS-P